DEPARTMENT OF DEFENSE

Department of the Army; Corps of Engineers

Intent To Prepare a Draft Environmental Impact Statement (DEIS) for the Construction and Operation of an Open Pit Copper/Nickel/Cobalt/Precious Metals Mine, an Ore Processing Plant, and Tailings Basin Proposed by PolyMet Mining, Inc. Near Babbitt and Hoyt Lakes in St. Louis County, MN

AGENCY: Department of the Army, U.S. Army Corps of Engineers, DOD.

ACTION: Notice of intent.

SUMMARY: PolyMet Mining, Inc., has applied to the St. Paul District, Corps of Engineers (Corps) for a permit to discharge fill material into wetlands to facilitate the construction and operation of an open pit copper/nickel/cobalt/precious metals mine in the low grade polymetallic disseminated magmatic sulfide NorthMet deposit in northeastern Minnesota, approximately 6 miles south of the town of Babbitt. The mining process would require the construction of waste and product stockpiles near the open pit. Ore processing would be conducted at a currently inactive taconite processing plant (modifications would be necessary), and ore tailings would be disposed of in a currently inactive taconite tailings basin adjacent to the processing plant. The processing plant and tailings basin are located about 8 miles west of the NorthMet deposit and about 5 miles north of the town of Hoyt Lakes. Ore would be transported from the mine to the processing plant via an existing railroad line. Construction of a railroad spur to the mine and a connecting railroad line to the plant site would be required. Project plans call for the mining of up to 32,000 tons of ore per day after overburden and waste rock stripping and stockpiling. Mining operations would be conducted 24 hours per day, 365 days per year, over the 20-year life of the project. Processing the ore would involve crushing, grinding, flotation, and hydrometallurgical processing. Cathode copper (high purity metal) would be produced on-site by solvent extraction and electrowinning. The processing would produce other metals (nickel, cobalt, palladium, platinum, and gold) as precipitates rather than as finished metal. The precipitates would be shipped offsite for further refining.

The project would require dredging or discharging fill material into an estimated 1,257 acres of wetlands. While some of the wetlands may be isolated, the majority of the wetlands are adjacent to the Partridge River, which is a tributary to the St. Louis River, which is a navigable water of the United States. A specific compensatory wetland mitigation plan has not yet been developed for the project. PolyMet Mining, Inc., has expressed interest in working with various interested federal and state agencies to develop an acceptable plan that would meet federal and state compensatory mitigation requirements. The discharge of fill material into waters of the United States requires a permit pursuant to Section 404 of the Clean Water Act. The final environmental impact statement will be used as a basis for the permit decision and to ensure compliance with the National Environmental Policy Act (NEPA).

FOR FURTHER INFORMATION CONTACT: Questions concerning the DEIS can be addressed to Mr. Jon K. Ahlness, Regulatory Branch by letter at U.S. Army Corps of Engineers, 190 Fifth Street East, St. Paul MN 55101-1638, by telephone at (651) 290-5381, or by e-mail at jon.k.ahlness@mvp02.usace.army.mil.

SUPPLEMENTARY INFORMATION: The Corps and the State of Minnesota will jointly prepare the DEIS. The Corps is the lead federal agency and the Minnesota Department of Natural Resources (MnDNR) is the lead state agency. The U.S. Forest Service is a cooperating agency. The Corps and the MnDNR will prepare and release to the public a Scoping Environmental Assessment Worksheet (EAW) and a Draft Scoping Decision Document. The public will have 30 days to provide comments on those two documents. The Corps and the MnDNR will conduct a public scoping meeting in Hoyt Lakes, Minnesota during the 30-day public comment period. A notice will be published or aired in local media once the meeting has been scheduled. Additional meetings will be conducted as needed. In accordance with 40 CFR 1506.5(c) and Corps policy, a third party contractor will be selected to prepare the DEIS. We anticipate that the DEIS will be available to the public in the summer of 2006.

The DEIS will assess impacts of the proposed action and reasonable alternatives, identify and evaluate mitigation alternatives, and discuss potential environmental monitoring. Significant issues and resources to be identified in the DEIS will be determined through coordination with responsible federal, state, and local agencies; the general public; interested private organizations and parties; and affected Native American Tribes. Anyone who has an interest in participating in the development of the DEIS is invited to contact the St. Paul District, Corps of Engineers. Major issues identified to date for discussion in the DEIS are the impacts of the proposed project on:

1. Natural resources including: Fishery, wildlife, vegetation, waters of the U.S., including wetlands, and riparian areas.

2. Water quality, water quantity, groundwater, erosion, and sedimentation.

3. Air quality.

4. Social and economic resources.

5. Downstream resources.

Additional issues of interest may be identified through the public scoping meeting and agency meetings.

The development of an open pit sulfide ore mine and associated ore processing and tailings facilities would be considered major in scope. The project: (1) Would have a significant adverse effect on wetlands (which are special aquatic sites), (2) has the potential to significantly affect water quality and groundwater, and (3) would also adversely affect plankton, fish, and wildlife. Our environmental review will be conducted to the requirements of the National Environmental Policy Act of 1969, National Historic Preservation Act of 1966, Council of Environmental Quality Regulations, Endangered Species Act of 1973, Section 404 of the Clean Water Act, and applicable laws and regulations.

Dated: June 23, 2005.
Michael F. Pfenning,
Colonel, Corps of Engineers District Engineer.

[FR Doc. 05-13018 Filed 6-30-05; 8:45 am]

BILLING CODE 3710-CY-M